DEPARTMENT OF DEFENSE

GENERAL SERVICES ADMINISTRATION

NATIONAL AERONAUTICS AND SPACE ADMINISTRATION

48 CFR Chapter 1

Federal Acquisition Regulation; Small Entity Compliance Guide

AGENCIES: Department of Defense (DoD), General Services Administration (GSA), and National Aeronautics and Space Administration (NASA).

ACTION: Small Entity Compliance Guide.

SUMMARY: This document is issued under the joint authority of the Secretary of Defense, the Administrator of General Services and the Administrator for the National Aeronautics and Space Administration. This Small Entity Compliance Guide has been prepared in accordance with section 212 of the Small Business Regulatory Enforcement Fairness Act of 1996 (Pub. L. 104-121). It consists of a summary of rules appearing in Federal Acquisition Circular (FAC) 2001-03 which amend the FAR. An asterisk (*) next to a rule indicates that a regulatory flexibility analysis has been prepared in accordance with 5 U.S.C. 604. Interested parties may obtain further information regarding these rules by referring to FAC 2001-03 which precedes this document. These documents are also available via the Internet at http://www.arnet.gov/far.

FOR FURTHER INFORMATION CONTACT: Laurie Duarte, FAR Secretariat, (202) 501-4225. For clarification of content, contact the analyst whose name appears in the table below.

List of Rules in FAC 2001-03
Item | Subject | FAR case | Analyst
I | Contractor Responsiblity, Labor Relations Costs, and Costs Relating to Legal and Other Proceedings | 1999-010 (stay) | De Stefano.
II | Contractor Responsibility, Labor Relations Costs, and Costs Relating to Legal and Other Proceedings—Revocation | 2001-014 | De Stefano.

Item I—Contractor Responsibility, Labor Relations Costs, and Costs Relating to Legal and Other Proceedings (FAR Case 1999-010 (Stay))

The Federal Acquisition Regulatory Council (FAR Council) published in the Federal Register at 65 FR 80255, December 20, 2000, a final rule addressing contractor responsibility and costs incurred in legal and other proceedings. After further review, the FAR Council published an interim rule in the Federal Register at 66 FR 17754, April 3, 2001, staying that rule. This final rule terminates the stay.

Item II—Contractor Responsibility, Labor Relations Costs, and Costs Relating to Legal and Other Proceedings—Revocation (FAR Case 2001-014)

The Federal Acquisition Regulatory Council (FAR Council) published in the Federal Register at 66 FR 17758, April 3, 2001, a proposed rule (April proposed rule) with a request for public comments. The April proposed rule proposed revoking a final rule published in the Federal Register at 65 FR 80255, December 20, 2000 (December final rule). The December final rule addressed responsibility and costs incurred in legal and other proceedings. This rule finalizes the April 3, 2001, proposed rule.

Dated: December 14, 2001.
Gloria M. Sochon,
Acting Director, Acquisition Policy Division.

[FR Doc. 01-31303 Filed 12-26-01; 8:45 am]

BILLING CODE 6820-EP-P